ENVIRONMENTAL PROTECTION AGENCY

[FRL-6902-8]

Proposed CERCLA Administrative Cost Recovery Settlement; FMC Dublin Road Superfund Site, Towns of Shelby and Ridgeway, Orleans County, New York

AGENCY: Environmental Protection Agency (EPA).

ACTION: Notice; request public comment.

SUMMARY: In accordance with section 122(i) of the Comprehensive Environmental Response, Compensation, and Liability Act of 1980, as amended (“CERCLA”), 42 U.S.C. 9622(i), notice is hereby given of a proposed administrative settlement for recovery of past and future response costs concerning the FMC Dublin Road Superfund Site (“Site”) located in the Towns of Shelby and Ridgeway, Orleans County, New York with the settling party, FMC Corporation. The settlement requires the settling party to pay $200,000.00 to the Hazardous Substance Superfund in reimbursement of past response costs incurred with respect to the Site. The settling party will also pay the interest on that amount calculated from March 25, 2000 through the date of payment and has agreed to reimburse the U.S. Environmental Protection Agency (“EPA”) for all future response costs not inconsistent with the National Contingency Plan, 40 CFR part 300, as amended (“NCP”), incurred by EPA in connection with the Site. The settlement includes a covenant not to sue the settling party pursuant to section 107(a) of CERCLA, 42 U.S.C. 9607(a) for past and future costs incurred at the Site by EPA.

For thirty (30) days following the date of publication of this document, EPA will receive written comments relating to the settlement. EPA will consider all comments received and may modify or withdraw its consent to the settlement if comments received disclose facts or considerations which indicate that the proposed settlement is inappropriate, improper, or inadequate. EPA's response to any comments received will be available for public inspection at the EPA's regional office, 290 Broadway, New York, New York 10007-1866.

DATES: Comments must be submitted on or before December 18, 2000.

ADDRESSES: The proposed settlement is available for public inspection at EPA, 290 Broadway, New York, New York 10007-1866. A copy of the proposed settlement may be obtained from Marla Wieder, Assistant Regional Counsel, Office of Regional Counsel, EPA, 290 Broadway, 17th Floor, New York, New York 10007-1866. Comments should reference the FMC Dublin Road Superfund Site, EPA Index No. CERCLA-02-2000-2030, and should be addressed to Marla Wieder, Assistant Regional Counsel, EPA, 290 Broadway, 17th Floor, New York, New York 10007-1866.

FOR FURTHER INFORMATION CONTACT: Marla Wieder, Assistant Regional Counsel, Office of Regional Counsel, EPA, 290 Broadway, 17th Floor, New York, New York 10007-1866. Telephone: (212) 637-3184.

Dated: October 24, 2000.
William J. Muszynski,
Acting Regional Administrator, Region 2.

[FR Doc. 00-29361 Filed 11-15-00; 8:45 am]

BILLING CODE 6560-50-P